DEPARTMENT OF COMMERCE

International Trade Administration

[A-533-871]

Finished Carbon Steel Flanges From India: Final Results of Antidumping Duty Administrative Review; 2019-2020

AGENCY: Enforcement and Compliance, International Trade Administration, Department of Commerce.

SUMMARY: The Department of Commerce (Commerce) determines that producers and/or exporters subject to this administrative review did not make sales of finished carbon steel flanges from India at prices below normal value during the period of review (POR), August 1, 2019, through July 31, 2020.

DATES: Applicable March 10, 2022.

FOR FURTHER INFORMATION CONTACT: Fred Baker or Preston Cox, AD/CVD Operations, Office VI, Enforcement and Compliance, International Trade Administration, U.S. Department of Commerce, 1401 Constitution Avenue NW, Washington, DC 20230; telephone: (202) 482-2924 or (202) 482-5041, respectively.

SUPPLEMENTARY INFORMATION:

Background

On September 7, 2021, Commerce published the Preliminary Results of this administrative review and invited interested parties to comment.¹ This administrative review covers 41 producers and/or exporters of the subject merchandise. Commerce selected R.N. Gupta & Co. Ltd. (RNG) and the Norma Group ² for individual examination. The producers/exporters not selected for individual examination are listed in the “Final Results of the Review” section of this notice.³

¹ See Finished Carbon Steel Flanges from India: Preliminary Results of Antidumping Duty Administrative Review; 2019-2020, 86 FR 50048 (September 7, 2021) (Preliminary Results), and accompanying Preliminary Decision Memorandum (PDM).

² In prior segments of this proceeding, Commerce determined that Norma (India) Limited, USK Exports Private Limited, Uma Shanker Khandelwal & Co., and Bansidhar Chiranjilal should be collapsed and treated as a single entity (Norma Group). See Finished Carbon Steel Flanges from India: Preliminary Determination of Sales at Less Than Fair Value and Postponement of Final Determination, 82 FR 9719 (February 8, 2017), and accompanying PDM at 4-5, unchanged in Finished Carbon Steel Flanges from India: Final Determination of Sales at Less Than Fair Value, 82 FR 29483 (June 29, 2017); see also Finished Carbon Steel Flanges from India: Preliminary Results of Antidumping Duty Administrative Review; 2017-2018, 84 FR 57848, 57849 (October 29, 2019), unchanged in Finished Carbon Steel Flanges from India: Final Results of Antidumping Duty Administrative Review; 2017-2018, 85 FR 21391 (April 17, 2020); Finished Carbon Steel Flanges from India: Preliminary Results of Antidumping Duty Administrative Review and Preliminary Determination of No Shipments; 2018-2019, 85 FR 83051, 83052 (December 21, 2020), unchanged in Finished Carbon Steel Flanges from India: Final Results of Antidumping Duty Administrative Review and Final Determination of No Shipments; 2018-2019, 86 FR 33226 (June 24, 2021). In this administrative review, Norma Group has presented evidence that the factual basis on which Commerce made its prior determination has not changed. See Norma Group's Letter, “Finished Carbon Steel Flanges from India: Response to Section A-D of Antidumping Duty Supplemental Questionnaire,” dated August 11, 2021, at S1-2 through S1-8. Therefore, in this administrative review, Commerce continues to collapse these four entities and treat them as a single entity.

³ See Initiation of Antidumping and Countervailing Duty Administrative Reviews, 86 FR 63081 (October 6, 2020).

On October 7, 2021, the Norma Group and RNG submitted case briefs.⁴ On October 14, 2021, Weldbend Corporation and Boltex Manufacturing Co., L.P. (collectively, the petitioners), submitted a rebuttal brief with respect to Norma Group.⁵ On February 24, 2022, we rejected Norma Group's case brief because it contained untimely filed new factual information.⁶ Norma Group filed a redacted version of its case brief on February 28, 2022.⁷ No other party submitted case or rebuttal briefs. For a description of the events that occurred since the Preliminary Results, see the Issues and Decision Memorandum.⁸ On December 9, 2021, we extended the deadline for the final results by 58 days, until March 4, 2022.⁹

⁴ See Norma Group's Letter, “Finished Carbon Steel Flanges from India: Case Brief of Norma India Limited, USK Exports Private Limited, Umashanker Khandelwal & Co and Bansidhar Chiranjilal, together constituting Norma Group,” dated October 7, 2021; see also RNG's Letter, “Finished Carbon Steel Flanges from India: Case Brief of R.N. Gupta & Company Limited,” dated October 7, 2021.

⁵ See Petitioners' Letter, “Finished Carbon Steel Flanges from India: Petitioners' Rebuttal Brief,” dated October 14, 2021.

⁶ See Commerce's Letter, “Rejection of Case Brief Previously Filed and Request for Resubmission of Its Case Brief in the 2019-2020 Administrative Review of the Antidumping Duty Order on Finished Carbon Steel Flanges from India,” dated February 24, 2022.

⁷ See Norma Group's Case Brief, “Finished Carbon Steel Flanges from India: Case brief (Revised) of Norma India Limited, USK Exports Private Limited, Umashanker Khandelwal & Co and Bansidhar Chiranjilal, together constituting Norma Group,” dated February 28, 2022 (Norma Group's Case Brief).

⁸ See Memorandum, “Issues and Decisions Memorandum for the Final Results of Administrative Review: Finished Carbon Steel Flanges from India; 2019-2020,” dated concurrently with, and hereby adopted by, this notice (Issues and Decision Memorandum).

⁹ See Memorandum, “Finished Carbon Steel Flanges from India: Extension of Deadline for Final Results of Antidumping Duty Administrative Review,” dated December 9, 2021.

Commerce conducted this administrative review in accordance with section 751 of the Tariff Act of 1930, as amended (the Act).

Scope of the Order ¹⁰

¹⁰ See Finished Carbon Steel Flanges from India and Italy: Antidumping Duty Orders, 82 FR 40136 (August 24, 2017) (Order).

The scope of the Order covers finished carbon steel flanges. Finished carbon steel flanges are currently classified under subheadings 7307.91.5010 and 7307.91.5050 of the Harmonized Tariff Schedule of the United States (HTSUS). While HTSUS subheadings are provided for convenience and customs purposes, the written description of the scope of this order is dispositive.

For a full description of the scope of the Order, see the Issues and Decision Memorandum.

Analysis of Comments Received

All issues raised by the parties in their case and rebuttal briefs are addressed in the Issues and Decision Memorandum. A list of the issues which parties raised, and to which we responded in the Issues and Decision Memorandum, is attached in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at https://access.trade.gov/public/FRNoticesListLayout.aspx.

Changes Since the Preliminary Results

Based on a review of the record and our analysis of the comments received, Commerce made certain changes to the Preliminary Results. For detailed information, see the Issues and Decision Memorandum.

Final Results of Administrative Review

For these final results, we determine that the following weighted-average dumping margins exist for the period August 1, 2019, through July 31, 2020:

Producers/exporters | Weighted-average dumping margin (percent)
R.N. Gupta & Co., Ltd | 0.00
Norma (India) Limited/USK Exports Private Limited/Uma Shanker Khandelwal & Co./Bansidhar Chiranjilal ¹¹ Chiranjilal | 0.00
Non-Selected Companies ¹² | 0.00

Rate for Non-Selected Respondents

¹¹ See footnote 2, supra.

¹² See Appendix II for a full list of non-selected companies.

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally an amount equal to the weighted average of the estimated weighted-average dumping margins established for exporters and producers individually investigated, excluding rates that are zero, de minimis (i.e., less than 0.5 percent), or determined entirely on the basis of facts available.

Consistent with section 735(c)(5)(A) of the Act, for the companies that were not selected for individual review, we assigned a rate based on the rates for the respondents that were selected for individual examination. Consistent with the U.S. Court of Appeals for the Federal Circuit's decision in Albemarle, we are applying to the 36 companies not selected for individual examination the zero percent rates calculated for the mandatory respondents, RNG and the Norma Group.¹³ These are the only rates determined in this review for individual respondents and, thus, should be applied to the 36 firms not selected for individual examination under section 735(c)(5)(B) of the Act.

¹³ See Albemarle Corp. v. United States, 821 F.3d 1345 (Fed. Cir. 2016) (Albemarle).

Disclosure

Commerce intends to disclose the calculations performed for these final results to parties in this proceeding within five days of the date of publication of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review. Pursuant to 19 CFR 351.212(b)(1), Commerce calculated importer-specific ad valorem duty assessment rates based on the ratio of the total amount of dumping calculated for the examined sales to the total entered value of those sales. Where the respondent's weighted-average dumping margin is either zero or de minimis, we will instruct CBP to liquidate the appropriate entries without regard to antidumping duties. Because the weighted-average dumping margins of RNG, the Norma Group, and the 36 firms not selected for individual examination have been determined to be zero percent within the meaning of 19 CFR 351.106(c), we will instruct CBP to liquidate the appropriate entries without regard to antidumping duties. In accordance with Commerce's practice, for entries of subject merchandise during the POR for which RNG and the Norma Group did not know that the merchandise was destined for the United States, we will instruct CBP to liquidate such entries at the all-others rate if there is no company-specific rate for the intermediate company(ies) involved in the transaction.¹⁴

¹⁴ See Antidumping and Countervailing Duty Proceedings: Assessment of Antidumping Duties, 68 FR 23954 (May 6, 2003).

Consistent with its recent notice,¹⁵ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁵ See Notice of Discontinuation of Policy to Issue Liquidation Instructions After 15 Days in Applicable Antidumping and Countervailing Duly Administrative Proceedings, 86 FR 3995 (January 15, 2021).

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates established in the final results of this administrative review; (2) for merchandise exported by producers or exporters not covered in this administrative review but covered in a prior segment of the proceeding, the cash deposit rate will continue to be the company-specific rate published for the most recent period; (3) if the exporter is not a firm covered in this review, a prior review, or the original LTFV investigation, but the producer has been covered in a prior complete segment of this proceeding, then the cash deposit rate will be the rate established for the most recent segment of this proceeding for the producer of the subject merchandise; (4) the cash deposit rate for all other producers or exporters will continue to be 8.91 percent, the all-others rate established in the LTFV investigation. These cash deposit requirements, when imposed, shall remain in effect until further notice.

Notification to Importers

This notice serves as a final reminder to importers of their responsibility under 19 CFR 351.402(f)(2) to file a certificate regarding the reimbursement of antidumping duties and/or countervailing duties prior to liquidation of the relevant entries during this review period. Failure to comply with this requirement could result in Commerce's presumption that reimbursement of antidumping duties and/or countervailing duties occurred and the subsequent assessment of doubled antidumping duties.

Notification Regarding Administrative Protective Order

This notice also serves as a reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.213(h) and 351.221(b)(5).

Dated: March 3, 2022.
Lisa W. Wang,
Assistant Secretary for Enforcement and Compliance.

Appendix I

List of Topics Discussed in the Issues and Decision Memorandum

I. Summary

II. Background

III. Scope of the Order

IV. Changes from the Preliminary Results

V. Discussion of the Issues

VI. Recommendation

Appendix II

Companies Not Selected for Individual Examination

1. Adinath International

2. Aditya Forge Limited

3. Allena Group

4. Alloyed Steel

5. Balkrishna Steel Forge Pvt. Ltd.

6. Bebitz Flanges Works Private Limited

7. C. D. Industries

8. CHW Forge

9. CHW Forge Pvt. Ltd.

10. Citizen Metal Depot

11. Corum Flange

12. DN Forge Industries

13. Echjay Forgings Limited

14. Falcon Valves and Flanges Private Limited

15. Heubach International

16. Hindon Forge Pvt. Ltd.

17. Jai Auto Pvt. Ltd.

18. Kinnari Steel Corporation

19. Mascot Metal Manufacturers

20. M F Rings and Bearing Races Ltd.

21. Munish Forge Private Limited

22. OM Exports

23. Punjab Steel Works

24. Raaj Sagar Steels

25. Ravi Ratan Metal Industries

26. R. D. Forge

27. Rolex Fittings India Pvt. Ltd.

28. Rollwell Forge Engineering Components and Flanges

29. Rollwell Forge Pvt. Ltd.

30. SHM (ShinHeung Machinery)

31. Siddhagiri Metal & Tubes

32. Sizer India

33. Steel Shape India

34. Sudhir Forgings Pvt. Ltd.

35. Tirupati Forge Pvt. Ltd.

36. Umashanker Khandelwal Forging Limited

[FR Doc. 2022-05071 Filed 3-9-22; 8:45 am]

BILLING CODE 3510-DS-P